Title 3—

The President

Proclamation 7561 of May 16, 2002

To Designate the Republic of Côte d'Ivoire as a Beneficiary Sub-Saharan African Country

By the President of the United States of America

A Proclamation

Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country.”

Section 112(b)(3)(B) of the AGOA (19 U.S.C. 3721(b)(3)(B)) provides special rules for certain apparel articles imported from “lesser developed beneficiary sub-Saharan African countries.”

Proclamation 7350 of October 2, 2000, and Proclamation 7400 of January 17, 2001, designated certain countries listed in section 107 of the AGOA as beneficiary sub-Saharan African countries and identified which designated beneficiary sub-Saharan African countries would be considered lesser developed beneficiary sub-Saharan African countries under section 112(b)(3)(B) of the AGOA.

Pursuant to section 506A(a)(1) of the 1974 Act, and having due regard for the eligibility criteria set forth therein, I have determined that it is appropriate to designate the Republic of Côte d'Ivoire (Côte d'Ivoire) as a beneficiary sub-Saharan African country.

Côte d'Ivoire satisfies the criteria for treatment as a “lesser developed beneficiary sub-Saharan country” under section 112(b)(3)(B) of the AGOA.

Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including sections 506A and 604 of the 1974 Act, and section 111 of the AGOA, do proclaim that:

(1) Côte d'Ivoire is designated as a beneficiary sub-Saharan African country.

(2) In order to reflect this designation in the HTS, general note 16(a) to the HTS is modified by inserting in alphabetical sequence in the list of beneficiary sub-Saharan African countries “Republic of Côte d'Ivoire.”

(3) For purposes of section 112(b)(3)(B) of the AGOA, Côte d'Ivoire shall be considered a lesser developed beneficiary sub-Saharan African country.

(4) Any provisions of previous proclamations and Executive Orders that are inconsistent with this proclamation are superseded to the extent of such inconsistency.

(5) The modifications of the HTS made by this proclamation shall be effective with respect to articles entered, or withdrawn from warehouse for consumption, on or after the date of publication of this proclamation in the Federal Register.

IN WITNESS WHEREOF, I have hereunto set my hand this sixteenth day of May, in the year of our Lord two thousand two, and of the Independence of the United States of America the two hundred and twenty-sixth.

B

[FR Doc. 02-12859

Filed 5-20-02; 8:45 am]

Billing code 3195-01-P